DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of May 12 through May 16, 2008.

In order for an affirmative determination to be made for workers of a primary firm and a certification issued regarding eligibility to apply for worker adjustment assistance, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(a)(2)(A) (increased imports) of the Trade Act have been met.

None.

The following certifications have been issued. The requirements of Section 222(a)(2)(B) (shift in production) of the Trade Act have been met.

None.

The following certifications have been issued. The requirements of Section 222(b) (supplier to a firm whose workers are certified eligible to apply for TAA) of the Trade Act have been met.

None.

The following certifications have been issued. The requirements of Section 222(b) (downstream producer for a firm whose workers are certified eligible to apply for TAA based on increased imports from or a shift in production to Mexico or Canada) of the Trade Act have been met.

None.

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-62,869; Columbia Lighting, A Division of Hubbel Lighting, Spokane, WA: August 20, 2007.

TA-W-63,040; Thos. Moser Cabinetmakers, Auburn, ME:March 17, 2007.

TA-W-63,141; GEA Bloomington Production Operations, LLC, A Subsidiary of General Electric, Bloomington, IN:April 3, 2007.

TA-W-63,257; Webb Wheel Products, A Subsidiary of The Marmon Group, OES Business Unit, Silam Springs, AR:April 25, 2007.

TA-W-63,269; Daimler Trucks North America, LLC, A Subsidiary of Daimler A.G., Freightline Trucks Division, Cleveland, NC: April 22, 2007.

TA-W-63,314; MJ Wood Products, Inc., dba Vermont Precision Woodworks, Morrisville, VT: May 5, 2007.

TA-W-62,807; Magna Donnelly Engineered Glass, Holland Windows Division, On-Site Leased Workers of Manpower,Holland, MI: February 5, 2007.

TA-W-62,833; MegTec Systems, Inc., A Subsidiary of Sequa Corporation, DePere, WI: February 11, 2007.

TA-W-63,070; Alamac American Knits LLC, Lumberton, NC:March 18, 2007.

The following certifications have been issued. The requirements of Section 222(a)(2)(B) (shift in production) and Section 246(a)(3)(A)(ii) of the Trade Act have been met.

TA-W-62,992; Rain Bird Corporation, Commercial Manufacturing Division, Tucson, AZ: March 6, 2007.

TA-W-63,140; IntriCon Tibbetts Corporation, Division of IntriCon Corporation, Camden, ME: April 1, 2007.

TA-W-63,149; Astro Air L.P., Division of Luvata Granada LLC, Jacksonville, TX: March 5, 2007.

TA-W-63,155; Amphenol-TCS, A Subsidiary of Amphenol Corporation, Nashua, NH: March 11, 2007.

TA-W-63,210; Parkview Metal Products, LLC, On-Site Leased Workers From Kelly Services, Las Cruces, NM:April 8, 2007.

TA-W-63,242; Perry Marketing Corporation, A Division of Perry Manufacturing Co., Miami, FL: April 23, 2007.

TA-W-63,252; LSI Corporation, On-Site Leased Workers From The Arnold Group, Spherion, Volt and Staffmark, Wichita, KS: April 24, 2007.

TA-W-63,258; Pass and Seymour/Legrand, Workers Producing Turnlok Receptacles, Whitsett, NC: April 25, 2007.

TA-W-63,265; Intel Corporation, California Technology and Manufacturing Group, Santa Clara, CA: April 24, 2007.

TA-W-63,301; Quebecor World Northeast Graphics, Inc., Workers of Ahead Human Resources, North Haven, CT:May 2, 2007.

TA-W-63,337; Adapt Identification, Marlboro, NJ: May 7, 2007.

TA-W-63,338; Crane Plumbing, LLC, Dallas Acrylic Plant, Dallas, TX: April 23, 2007.

TA-W-63,236; Avaya, Inc., Unified Communications Division, Information Solutions, Organization, Westminster, CO:April 22, 2007.

TA-W-63,244; RFMD, Gallimore Dairy Road Test Operations, Greensboro, NC: April 24, 2007.

TA-W-63,322; ATP Manufacturing, LLC, A Subsidiary of Newgrange Group, LLC, North Smithfield, RI: May 5,2007.

TA-W-63,323; J-Sport Company, Millersburg, OH: May 5, 2007.

The following certifications have been issued. The requirements of Section 222(b) (supplier to a firm whose workers are certified eligible to apply for TAA) and Section 246(a)(3)(A)(ii) of the Trade Act have been met.

TA-W-63,111; Brodnax Mills, Inc., Brodnax, VA: March 31, 2007.

TA-W-63,292; Syncreon-US, Formerly Know as TDS.US, Jefferson North Assembly Operation, Detroit, MI:April 29, 2007.

The following certifications have been issued. The requirements of Section 222(b) (downstream producer for a firm whose workers are certified eligible to apply for TAA based on increased imports from or a shift in production to Mexico or Canada) and Section 246(a)(3)(A)(ii) of the Trade Act have been met.None.

Negative Determinations for Alternative Trade Adjustment Assistance

In the following cases, it has been determined that the requirements of 246(a)(3)(A)(ii) have not been met for the reasons specified.

The Department has determined that criterion (1) of Section 246 has not been met. The firm does not have a significant number of workers 50 years of age or older.None.

The Department has determined that criterion (2) of Section 246 has not been met. Workers at the firm possess skills that are easily transferable.

None.

The Department has determined that criterion (3) of Section 246 has not been met. Competition conditions within the workers' industry are not adverse.

None.

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

None.

The investigation revealed that criteria (a)(2)(A)(I.B.) (Sales or production, or both, did not decline) and (a)(2)(B)(II.B.) (shift in production to a foreign country) have not been met.

TA-W-63,004; James Hardie Building Products, Inc., Blandon, PA.

The investigation revealed that criteria (a)(2)(A)(I.C.) (increased imports) and (a)(2)(B)(II.B.) (shift in production to a foreign country) have not been met.

TA-W-62,284; Parker Hannifin Corporation, Hose Products Division, Eastlake, OH.

TA-W-62,802; Shorewood Packaging Corporation, A Subsidiary of International Paper, Home Entertainment Division,Edison, NJ.

TA-W-62,815; R and G Mold and Engineering, Inc., Grandville, MI.

TA-W-63,011; B. Walter and Company, Wabash, IN.

TA-W-63,080; Chrysler, LLC, Belvidere Assembly Plant, Belvidere, IL.

TA-W-63,119; Permacel St. Louis, Inc., St. Louis, MO.

TA-W-63,291; Highland Metals Distribution, Inc., dba Tanks Manufacturing, LLC, Lakeview, OR.

The workers' firm does not produce an article as required for certification under Section 222 of the Trade Act of 1974.

TA-W-62,842; Norton Lumber Company, Inc., White City, OR.

TA-W-62,955; Pitney Bowes, Tech Central Infrastructure and Support Services, Danbury, CT.

TA-W-63,134; Dutch Mundy Chevrolet, Independence, VA.

TA-W-63,193; JP Morgan Chase and Co., JP Morgan Asset Management, Fiduciary Administration—Court Accounting,Troy, MI.

TA-W-63,280; Sears Holdings Management Company, Tucker Support Center, Tucker, GA.

TA-W-63,281; J. L. Bray and Son, Inc., Salida, CA.

The investigation revealed that criteria of Section 222(b)(2) has not been met. The workers' firm (or subdivision) is not a supplier to or a downstream producer for a firm whose workers were certified eligible to apply for TAA.

None.

I hereby certify that the aforementioned determinations were issued during the period of May 12 through May 16, 2008. Copies of these determinations are available for inspection in Room C-5311, U.S. Department of Labor, 200 Constitution Avenue, NW., Washington, DC 20210 during normal business hours or will be mailed to persons who write to the above address.

Dated: May 21, 2008.
Linda G. Poole,
Certifying Officer, Division Of Trade Adjustment Assistance.

[FR Doc. E8-11902 Filed 5-28-08; 8:45 am]

BILLING CODE 4510-FN-P